DEPARTMENT OF HEALTH AND HUMAN SERVICES

Administration for Children and Families

Statement of Organization, Functions and Delegation of Authority

Notice is hereby given that I have delegated to the Director, Office of Family Assistance, the following authorities vested in me by the Secretary of Health and Human Services in the memorandum dated August 20, 1991, Delegations of Authority for the Social Security Act Programs and in the memorandum dated August 20, 1991, Delegations of Authority for Title XI of the Social Security Act.

(a) Authorities Delegated

1. Authority to administer the provisions of the Adult Assistance (AA) Programs under Titles I, X, XIV and XVI (Grants to States for Aid to the Aged, Blind and Disabled) of the Social Security Act, and as amended now and hereafter.

2. Authority under Section 1119 of the Social Security Act, and as amended now and hereafter, to approve Federal financial participation in payments for repairs to homes owned by recipients of aid or assistance under Titles I, X, XIV, or XVI.

(b) Limitations

1. This delegation of authority shall be exercised under the Department's existing policies on delegations and regulations.

2. This delegation of authority does not include the authority to submit reports to Congress and shall be exercised under financial and administrative requirements applicable to all Administration for Children and Families' authorities.

3. The approval or disapproval of grant applications and the making of grant awards require concurrence of the appropriate Grants Officer. The approval or disapproval of contract proposals and awards are subject to the requirements of the Federal Acquisition Regulations and requires the concurrence of the Contracting Officer.

4. This delegation of authority does not include the authority to sign and issue notices of grant awards.

5. This delegation of authority does not include the authority to appoint Central Office and Regional Office Grant Officers for the administration of the adult assistance programs.

6. This delegation of authority does not include the authority to appoint Action Officials for Audit Resolution.

7. This delegation of authority does not include the authority to approve or disapprove State requests for Federal financial participation for the costs of automated data processing equipment and services which affect more than one HHS Operating Division.

8. This delegation of authority does not include the authority to make determinations on State appeals concerning audit questions or recommendations by the Department of Health and Human Services (HHS) Audit Agency which involve ACF program practices reviewed under Titles I, X, XI and XVI of the Social Security Act.

9. This delegation of authority does not include the authority to disapprove State Plans and amendments.

10. This delegation of authority does not include the authority to hold hearings.

11. Any redelegation shall be in writing and prompt notification must be provided to all affected managers, supervisors, and other personnel, and requires the concurrence of the Deputy Assistant Secretary for Administration.

(c) Effect on Existing Delegations

This delegation supersedes all previous delegations of authority involving the administration of the Adult Assistance programs or the program under Section 1119 of the Social Security Act.

(d) Effective Date

This delegation was effective upon the date of signature.

I hereby affirm and ratify any actions taken by the Director, Office of Family Assistance which involved the exercise of the authorities delegated herein prior to the effective date of this delegation.

Dated: February 16, 2007.
Wade F. Horn,
Assistant Secretary for Children and Families.

[FR Doc. E7-3326 Filed 2-26-07; 8:45 am]

BILLING CODE 4184-01-P